DEPARTMENT OF DEFENSE

Office of the Secretary

[Transmittal Nos. 15-07]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 15-07 with attached transmittal, policy justification, and Sensitivity of Technology.

Dated: March 9, 2015.
Aaron Siegel,
Alternate OSD Federal Register Liaison Officer, Department of Defense.

BILLING CODE 5001-06-P

BILLING CODE 5001-06-C

Transmittal No. 15-07

Notice of Proposed Issuance of Letter of Offer Pursuant to Section 36(b)(1) of the Arms Export Control Act, as amended

(i) Prospective Purchaser: Jordan

(ii) Total Estimated Value:

Major Defense Equipment* | $150 million
Other | $ 42 million
TOTAL | $192 million
* as defined in Section 47(6) of the Arms Export Control Act.

(iii) Description and Quantity or Quantities of Articles or Services under Consideration for Purchase: 72 M31 Unitary Guided Multiple Launch Rocket Systems (GMLRS) Rocket Pods (6 rockets per pod for a total of 432), support equipment, spare and repair parts, publications and technical data, personnel training and equipment, systems integration support, U.S. Government and contractor engineering and logistics personnel services, and other related elements of logistics support.

(iv) Military Department: Army (WYB, Amendment #1)

(v) Prior Related Cases, if any: FMS case WYB-$166M-27Jan10

(vi) Sales Commission, Fee, etc., Paid, Offered, or Agreed to be Paid: None

(vii) Sensitivity of Technology Contained in the Defense Article or Defense Services Proposed to be Sold: See Annex attached.

(viii) Date Report Delivered to Congress: 04 March 2015

POLICY JUSTIFICATION

Jordan—M31 Unitary Guided Multiple Launch Rocket Systems (GMLRS) Rocket Pods

The Government of Jordan has requested a possible sale of 72 M31 Unitary Guided Multiple Launch Rocket Systems (GMLRS) Rocket Pods (6 rockets per pod for a total of 432), support equipment, spare and repair parts, publications and technical data, personnel training and equipment, systems integration support, U.S. Government and contractor engineering and logistics personnel services, and other related elements of logistics support. The estimated cost is $192 million.

This proposed sale will contribute to the foreign policy and national security of the U.S. by helping to improve the security of a partner country that has been and continues to be an important force for political stability and economic progress in the Middle East. It is vital to the U.S. national interest that Jordan develops and maintains a strong and ready self-defense capability. This proposed sale is consistent with the U.S. regional objectives and will not impact the regional stability in the Middle East.

The proposed sale of GMLRS will improve Jordan's capability to meet current and future threats on its borders and provide greater security for its economic infrastructure. The GMLRS will provide the Royal Jordanian Armed Forces (JAF) a long-range precision artillery support capability that will significantly improve U.S.-JAF interoperability and provide for the defense of vital installations. Jordan will have no difficulty absorbing these additional systems into its armed forces.

The proposed sale of this equipment and support will not alter the basic military balance in the region.

The principal contractor will be Lockheed Martin Missile and Fire Control in Dallas, Texas. There are no known offset agreements proposed in connection with this potential sale.

Implementation of this sale will not require the assignment of any additional U.S. Government or contractor representatives to Jordan.

There will be no adverse impact on U.S. defense readiness as a result of this proposed sale.

Transmittal No. 15-07

Notice of Proposed Issuance of Letter of Offer Pursuant to Section 36(b)(1) of the Arms Export Control Act, as amended

Annex

Item No. vii

(vii) Sensitivity of Technology:

1. Guided Multiple Launch Rocket System (GMLRS) munitions are the Army's primary Joint Expeditionary, all-weather, 24/7, tactical precision-guided rockets. GMLRS is the primary munitions system for units fielded with the High Mobility Artillery Rocket System (HIMARS) and Multiple Launch Rocket Systems (MLRS) M270A1 rocket and missile launcher platforms. GMLRS provides close, medium, and long range precision and area fires to destroy, suppress, and shape threat forces and protect friendly forces against cannon, mortar, rocket and missile artillery, light material and armor, personnel, command and control, and air defense surface targets. GMLRS integrates guidance and control packages and an improved rocket motor achieving greater range and precision accuracy, requiring fewer rockets to defeat targets, thereby reducing the logistics burden. The highest classification level for release of the GMLRS Pod Unitary High Explosive (HE) Tri Mode is Secret, based upon the software, sale or testing of the end item. The highest level of classification that must be disclosed for production, maintenance, or training is Confidential.

2. The Global Positioning System Precise Positioning Service (GPS PPS) component of the munition is also contained in the Fire Direction System, is classified Secret, and is considered sensitive. To that end, no GPS PPS design information, including GPS software algorithms, will be disclosed in the course of this proposed sale to Jordan. Susceptibility of GMLRS to diversion or exploitation is considered low risk. The GMLRS employs an inertial navigational system that is aided by a Selective Availability Anti-Spoofing Module (SAASM) equipped GPS receiver.

3. If a technologically advanced adversary were to obtain knowledge of the specific hardware and software, the information could be used to develop countermeasures, which might reduce weapon system effectiveness or be used in the development of a system with similar or advanced capabilities.

4. A determination has been made that the recipient country can provide the same degree of protection for the sensitive technology being released as the U.S. Government. This sale is necessary in furtherance of the U.S. foreign policy and national security objectives outlined in the Policy Justification.

5. All defense articles and services listed in this transmittal have been authorized for release and export to the Government of Jordan.

[FR Doc. 2015-05723 Filed 3-12-15; 8:45 am]

BILLING CODE 5001-06-P